DEPARTMENT OF VETERANS AFFAIRS

Notice of Request for Information To Assist the Department of Veterans Affairs To Determine the Feasibility and Need for Providing Interments in Veterans' National Cemeteries on Saturdays and Sundays

AGENCY: Department of Veterans Affairs.

ACTION: Request for Information.

SUMMARY: The Department of Veterans Affairs (VA) is requesting feedback to assist in implementing section 304 of the Jeff Miller and Richard Blumenthal Veterans Health Care and Benefits Improvement Act of 2016, which requires VA to conduct a study on the feasibility and need for providing increased interments in VA national cemeteries on Saturdays and Sundays. This notice requests comments from interested parties to help inform VA as it conducts this study, to include specific questions for comment with regard to the perceived need for such increased interments.

DATES: Comments in response to this request for information must be received by VA on or before September 8, 2017.

ADDRESSES: Written comments may be submitted through www.Regulations.gov, or by mail or hand delivery to the Director, Office of Regulation Policy and Management (00REG), Department of Veterans Affairs, 810 Vermont Ave. NW., Room 1068, Washington, DC 20420; or by fax to (202) 273-9026 (this is a toll-free number). Comments should indicate they are submitted in response to “Notice of Request for Information to assist the Department of Veterans Affairs to determine the feasibility and need for providing interments in veterans' national cemeteries on Saturdays and Sundays.” Copies of comments received will be available for public inspection in the Office of Regulation Policy and Management, (00REG), Department of Veterans Affairs, 810 Vermont Ave. NW., Room 1063B, Washington, DC 20420, between the hours of 8 a.m. and 4:30 p.m., Monday through Friday (except Federal holidays). Please call (202) 461-4902 for an appointment (this is not a toll-free number). During the comment period, comments may also be viewed online through the Federal Docket Management System (FDMS) at www.Regulations.gov.

FOR FURTHER INFORMATION CONTACT: Brad Phillips, Executive Director, Pacific District, National Cemetery Administration, Department of Veterans Affairs, 810 Vermont Avenue NW., Washington, DC 20420, (510) 637-6280 (this is not a toll free number).

SUPPLEMENTARY INFORMATION: Section 304 of the Jeff Miller and Richard Blumenthal Veterans Health Care and Benefits Improvement Act of 2016 (Public Law 114-315, hereafter referred to as “the Act”) requires VA to conduct a study on the feasibility and need for providing increased interments in veterans' cemeteries on Saturdays and Sundays. In accordance with section 304(a)(2) of the Act, matters to be studied include: (1) The number of requests for interments in veterans' cemeteries on a Saturday or Sunday since January 1, 2007; (2) the number of requests that were granted for interments in veterans' cemeteries on a Saturday or Sunday since January 1, 2007; (3) an estimate of the number of families that, since January 1, 2007, would have selected a weekend interment if such an interment had been offered; (4) a review of the practices relating to weekend interments among non-veterans' cemeteries, including private and municipal cemeteries; (5) a comparison of the costs to veterans' cemeteries with respect to providing regular interments only during weekdays and such costs for providing regular interments during weekdays and at least one weekend day; (6) any other information the Secretary determines appropriate.

Under section 304(a)(3) of the Act, VA must consult with the following groups in conducting this study: veterans who are eligible to be interred in a veterans' cemetery; family members of individuals interred in a veterans' cemetery; veterans service organizations; associations representing cemetery and funeral home professionals; the heads of agencies of State governments relating to veterans affairs; the directors of veterans' cemeteries; and any other person the Secretary determines appropriate. This notice of request for information serves as the means for VA to consult with these groups and entities by soliciting their input on two specific matters: the number of families that, since January 1, 2007, would have selected a weekend interment if such an interment had been offered (in accordance with section 304(a)(2)(C) of the Act); and the practices relating to weekend interments among non-veterans' cemeteries, including private and municipal cemeteries (in accordance with section 304(a)(2)(D) of the Act). VA will use comments it receives as part of conducting the study required in section 304(a) of the Act. VA will then submit a final report to Congress regarding the study, as required by section 304(b) of the Act. VA notes that due to the requirement in section 304(b) of the Act to submit a report to Congress within 180 days of enactment of the Act, VA has submitted an interim report to Congress with internal administrative information related to the feasibility of and need for providing these increased interments, as well as summaries of similar information that some external groups anecdotally provided to VA. This notice of request for information ensures that all groups with which VA is required to consult in section 304(a)(3) have an opportunity to comment on those matters listed in section 304(a)(2)(C) and (D) of the Act. VA has been able to gather information from its internal administrative systems as relates to the other matters listed in the Act.

This notice of request for information has a comment period of 30 days in which commenters may reply to the questions presented in the next section below. VA believes that 30 days are sufficient to provide comments, as some groups and entities with expertise in the feasibility of and need for providing these increased interments have already provided anecdotal information that has informed VA's interim report to Congress.

This notice is a request for information only. This does not constitute a Request for Proposal, applications, proposal abstracts, or quotations, and VA will not accept unsolicited proposals. Commenters are encouraged to provide complete but concise responses to the questions outlined below. Please note that VA will not respond to comments or other questions regarding policy plans, decisions, or issues with regard to this notice. VA may choose to contact individual commenters, and such communications would only serve to further clarify their written comments.

Request for Information

This request for information will assist VA to conduct the study required in section 304(a) of the Act. Because VA is required to consult with specific groups as listed in section 304(a)(3) of the Act, and because some questions solicit information from these specific groups, VA requests that all commenters identify in their comments if they are members of one of the following groups: Veterans who are eligible to be interred in a veterans' cemetery; family members of individuals interred in a veterans' cemetery; veterans service organizations; associations representing cemetery and funeral home professionals; and the heads of agencies of State governments relating to veterans affairs. VA welcomes comments from individuals outside of these groups as well. VA requests information related to the questions below:

1. If you are a family member of an individual who was interred in a VA national cemetery since January 1, 2007, would you likely have selected a weekend interment option (interment on Saturday or Sunday) if one had been offered? Why or why not?

2. If you are a veteran or other individual eligible for interment at a VA national cemetery, or family member of such an individual:

a. Would you prefer a weekend interment (Saturday or Sunday) if such an option were offered? Why or why not?

b. Would you prefer interment on a Saturday or on a Sunday, and why might you have a preference for one day or the other?

3. If you belong to an association, entity, or business representing cemetery and funeral home professionals, or are a director of a State or tribal veterans' cemetery, please provide a review of practices relating to weekend interment options offered in private and other cemeteries (that are not VA national cemeteries). Specifically:

a. Do your members, or does your organization or business, offer a Saturday or Sunday interment option? Why or why not?

b. If a weekend interment option is offered, is it offered on either or both Saturday or Sunday? Why is it offered on only one day or both days?

c. Is there a difference in costs to the entity to offer and conduct weekend interments versus weekday interments (to include resources like staffing and use of buildings and grounds)? Are these costs passed on to the family in the form of higher fees or charges?

d. What do you perceive to be the advantages or disadvantages of offering weekend interment options in cemeteries and also, specifically, in VA national cemeteries?

4. If you belong to or represent veterans service organizations, or heads of agencies of State governments related to veterans affairs:

a. Have veterans or their family members in the areas you serve expressed a preference for a weekend interment option in VA national cemeteries? Did those veterans or their family members provide reasons why they would or would not prefer such an option, and if so, what were the reasons provided?

b. What do you perceive to be the advantages or disadvantages of VA offering weekend interment options in VA national cemeteries?

Paperwork Reduction Act

This request for information constitutes a general solicitation of public comments as stated in the implementing regulations of the Paperwork Reduction Act at 5 CFR 1320.3(h)(4). Therefore, this request for information does not impose information collection requirements (i.e. reporting, recordkeeping, or third-party disclosure requirements). Consequently, there is no need for review by the Office of Management and Budget under the authority of the Paperwork Reduction Act of 1995 (44 U.S.C. 3501 et seq.).

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on August 3, 2017, for publication.

Dated: August 3, 2017.
Michael Shores,
Director, Regulation Policy & Management, Office of the Secretary, Department of Veterans Affairs.

[FR Doc. 2017-16721 Filed 8-8-17; 8:45 am]

BILLING CODE 8320-01-P